DEPARTMENT OF THE TREASURY

Alcohol and Tobacco Tax and Trade Bureau

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Pub. L. 104-13 (44 U.S.C. 3506(c)(2)(A)). Currently, the Alcohol and Tobacco Tax and Trade Bureau, within the Department of the Treasury, is soliciting comments concerning the “Pay.gov User Agreement.”

DATES: Written comments should be received on or before January 20, 2004 to be assured of consideration.

ADDRESSES: Direct all written comments to Donald James, Alcohol and Tobacco Tax and Trade Bureau, 550 Main Street, Room 8002, Cincinnati, OH 45202; phone 513-684-3531.

FOR FURTHER INFORMATION CONTACT: Requests for additional information or copies of the form(s) and instructions should be directed to Donald James, Alcohol and Tobacco Tax and Trade Bureau, 550 Main Street, Room 8002, Cincinnati, OH 45202; 513-684-3531.

SUPPLEMENTARY INFORMATION: Title: Pay.gov User Agreement.

OMB Number: New Collection.

Recordkeeping Requirement ID Number: To be determined.

Abstract: The Pay.gov User Agreement will be used to identify, validate, approve, and register qualified users to allow for submission of electronic forms using the Pay.gov System.

Current Actions: This is a new collection.

Type of Review: New collection.

Affected Public: Business or other for-profit.

Estimated Number of Respondents: 5800.

Estimated Total Annual Burden Hours: 483.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: November 5, 2003.
William H. Foster,
Chief, Regulations and Procedures Division.

[FR Doc. 03-28897 Filed 11-18-03; 8:45 am]

BILLING CODE 4810-13-P